NATIONAL LABOR RELATIONS BOARD

Amendment of Statement of Organization and Functions; Restructuring of National Labor Relations Board's Field Organization

November 14, 2014.

AGENCY: National Labor Relations Board.

ACTION: Notice of administrative change in status of the Jacksonville, Florida Resident Office (Region 12) of the National Labor Relations Board, which will be closed and the area will be served by agents working from other locations.

SUMMARY: The National Labor Relations Board is closing its Jacksonville, Florida Resident Office because it has determined that closing the office and serving the area with agents working at other locations, will result in significant savings while continuing to effectively serve the area currently served by this office.

DATES: Effective Date: The change announced above with respect to the Jacksonville, Florida office will be effective December 1, 2014.

FOR FURTHER INFORMATION CONTACT: Gary Shinners, Executive Secretary, 1099 14th Street NW., Room 11600, Washington, DC 20570. Telephone: (202) 273-1067

SUPPLEMENTARY INFORMATION: The National Labor Relations Board has decided to close its Jacksonville, Florida Resident Office. This change is prompted by an examination of the staffing, caseloads, and rental and operating costs for the Jacksonville office which has been occupied by only one employee for more than two years. Because of the declining intake in this area, it is not expected that additional employees would be added to this office in the foreseeable future. The employee who has been working in the Jacksonville office will be converted to a Resident Agent and will continue to perform the same work as now except that the employee will not work from an Agency office. When needed, this employee will be assisted by agents from the Agency's Tampa office. This revision is nonsubstantive or merely procedural in nature. The Board expects no adverse impact on the quality of casehandling as a result of the office closure.

Region 12, which handles cases arising in Florida, certain counties in Georgia, and Puerto Rico is headed by a Regional Director, who works in the Tampa, Florida Regional office and has full authority for the processing of both unfair labor practice and representation cases in that area. Currently, the other employees in this Region work in offices in Tampa, Miami, and Jacksonville, Florida and in San Juan, Puerto Rico. Under this proposal, all offices except the Jacksonville office will continue to be open. The geographical area covered by the Region will not be changed.

The most recent list of Regional and Subregional Offices was published at 65 FR 53228-53229 on August 29, 2000, as amended at 78 FR 44602-44603 on Wednesday, July 24, 2012.

Concurrent with this Notice, the NLRB is revising its Statement of Organization and Functions to delete reference to the Jacksonville, Florida office as a place where persons can obtain service in Region 12. The revision to the Board's Statement of Organization and Functions is attached.

Since April 2014, the NLRB has solicited and received feedback on the proposed closure of the Jacksonville, Florida office. The decision to close this office and restructure the Agency's operations in the manner set forth here was informed by comments from stakeholders, members of Congress and Agency employees. Because this is a general notice that is related to the organization of the NLRB, it is not a regulation or rule subject to Executive Order 12866.

Pursuant to the change set forth here, the National Labor Relations Board is amending its Statement of Organization and Functions as follows:

Part 201—Description of Organization

Subpart B—Description of Field Organization

(A) “Areas Served by Regional and Subregional Offices” is amended in following manner:

(1) Region 12 is amended to read as follows:

Region 12. Tampa, Florida. In Florida, services Alachua, Baker, Bradford, Brevard, Broward, Charlotte, Citrus, Clay, Collier, Columbia, Dad, De Soto, Dixie, Duval, Flagler, Gadsden, Gilchrist, Glades, Hamilton, Hardee, Hendry, Hernando, Highlands, Hillsborough, Indian River, Jefferson, Lafayette, Lake, Lee Leon, Levy, Madison, Manatee, Marion, Martin, Monroe, Nassau, Okeechobee, Orange, Osceola, Palm Beach, Pasco, Pinellas, Polk, Putnam, St. Johns, St. Lucie, Sarasota, Seminole, Sumter, Suwannee, Taylor, Union, Volusia and Wakulla Counties; and in Georgia services Appling, Atkinson, Bacon, Brantley, Brooks, Camden, Charlton, Clinch, Coffee, Decatur, Echols, Glynn, Grady, Jeff Davis, Lanier, Lowndes, Pierce, Seminole, Thomas, Ware, and Wayne Counties.

Subregion 24. Hato Rey, Puerto Rico, Services Puerto Rico and the U.S. Virgin Islands.

Persons may also obtain service at the Resident Office located in Miami, Florida.

Dated: November 14, 2014.
By Direction of the Board.
William B. Cowen,
Solicitor.

[FR Doc. 2014-27356 Filed 11-19-14; 8:45 am]

BILLING CODE 7545-01-P